DEPARTMENT OF JUSTICE

Antitrust Division

Notice Pursuant to the National Cooperative Research and Production Act of 1993—Global Human Body Models Consortium

Notice is hereby given that, on January 19, 2006, pursuant to Section 6(a) of the National Cooperative Research and Production Act of 1993, 15 U.S.C. 4301 et seq. (“the Act”), Global Human Body Models Consortium has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: General Motors Corporation, Detroit, MI; DaimlerChrysler Corporation, Auburn Hills, MI; Honda R&D Co., Ltd., Tochigi, Japan; Hyundai Motor Company, Gyeonggi-do, Republic of Korea; Nissan Motor Co., Ltd., Kanagawa, Japan; TK Holdings, Auburn Hills, MI; Toyota Motor Corporation, Aichi, Japan; and TRW Vehicle Safety Systems, Inc., Washington, MI. The general area of Global Human Body Models Consortium's planned activity is to conduct joint research and development necessary to create computer models of the human body (and/or portions thereof) and the body's reaction to external physical forces. The models would be used in vehicle and component testing. To accomplish this objective, the parties, working in conjunction as necessary with third parties such as government entities, universities and suppliers, will refine and improve current models and develop new ones.

Dorothy B. Fountain,
Deputy Director of Operations, Antitrust Division.

[FR Doc. 06-1291 Filed 2-10-06; 8:45 am]

BILLING CODE 4410-11-M